DEPARTMENT OF JUSTICE

Antitrust Division

Notice Pursuant to the National Cooperative Research and Production Act of 1993—American Institute of Aeronautics and Astronautics, Inc.

Notice is hereby given that, on September 21, 2004, pursuant to section 6(a) of the National Cooperative Research and Production Act of 1993, 15 U.S.C. 4301 et seq. (“the Act”), American Institute of Aeronautics and Astronautics, Inc. (“AIAA”) has filed written notifications simultaneously with the Attorney General and the Federal Trade Commission disclosing (1) the name and principal place of business of the standards development organization and (2) the nature and scope of its standards development activities. The notifications were filed for the purpose of invoking the Act's provisions limiting the recovery of antitrust plaintiffs to actual damages under specified circumstances.

Pursuant to section 6(b) of the Act, the name and principal place of business of the standards development organization is: American Institute of Aeronautics and Astronautics, Inc., Reston, VA. The nature and scope of AIAA's standards development activities are: The development, maintenance, and publishing of standards relating to aerodynamic decelerators; the motion of artificial bodies in space; atmospheric and space environments with emphasis on scientific models; computational fluid dynamics applicable to aeronautics and astronautics; the requirements for humans in development and operation of aerospace systems; application for specific characteristics of computer software for aerospace use; handling, storage, and use of hydrogen in gaseous liquid and slush form; handling, storage and use of liquid propellants; methods for mitigating the generation of orbital debris including debris flux models and vocabulary; the architecture and interfaces necessary for effective spacecraft servicing; performance parameters related to the use of automation and robotics in space missions with emphasis on interfaces, reliability, and life cycle design; vocabulary, interfaces, safety practices, mission profiles, and other system design aids which will promote space transportation; basic aerospace design principles; the test and evaluation of aerospace equipment in ground-based facilities; methods for the systematic development of reliable systems, including acquisition management issues, methods for planning, implementing, and verifying a Performance-based Reliability and Maintainability (R&M) Program; support design of aerospace structures, including future requirements for loads, materials, processes, configurations, life cycles, and tests.

Additional information may be obtained from David J. Quackenbush, Treasurer and Secretary of the American Institute of Aeronautics and Astronautics, Inc., e-mail daveq@aiaa.org.

Dorothy B. Fountain,
Deputy Director of Operations, Antitrust Division.

[FR Doc. 04-25856 Filed 11-19-04; 8:45 am]

BILLING CODE 4410-11-M